DEPARTMENT OF COMMERCE

Foreign-Trade Zones Board

[Order No. 1365]

Approval for Expansion of Manufacturing Authority Within Subzone 193A Cardinal Health 409, Inc., Facilities (Soft Gelatin Capsules/Pharmaceutical and Nutritional Products) Pinellas County, FL

Pursuant to its authority under the Foreign-Trade Zones Act of June 18, 1934, as amended (19 U.S.C. 81a-81u), the Foreign-Trade Zones Board (the Board) adopts the following Order:

Whereas, the Pinellas County Board of County Commissioners, grantee of FTZ 193A, has requested authority to expand the scope of manufacturing activity (pharmaceutical and nutritional products) under zone procedures within Subzone 193A at the Cardinal Health 409, Inc., facilities in Pinellas County, Florida (FTZ Docket 3-2004, filed 2/10/2004);

Whereas, notice inviting public comment has been given in the Federal Register (69 FR 7723, 2/19/2004);

Whereas, the Board adopts the findings and recommendations of the examiner's report, and finds that the requirements of the FTZ Act and Board's regulations are satisfied, and that the proposal is in the public interest;

Now, therefore, the Board hereby orders:

The application to expand the scope of authority under zone procedures within Subzone 193A on behalf of Cardinal Health 409, Inc., is approved, subject to the FTZ Act and the Board's regulations, including Section 400.28

Signed at Washington, DC, this 27th day of January 2005.
Joseph A. Spetrini,
Acting Assistant Secretary of Commerce for Import Administration, Alternate Chairman, Foreign-Trade Zones Board.
Attest:
Dennis Puccinelli,
Executive Secretary.

[FR Doc. 05-2434 Filed 2-7-05; 8:45 am]

BILLING CODE 3510-DG-M